DEPARTMENT OF AGRICULTURE

Forest Service

Opal Creek Scenic Recreation Area (SRA) Advisory Council

AGENCY: USDA Forest Service, Willamette National Forest.

ACTION: Notice of Solicitation for Nominations.

SUMMARY: The Willamette National Forest is seeking nominees for eight positions on the Opal Creek Advisory Council. The Council was originally established in June 2000 with 13 members. On April 20, 2007, eight member's terms will expire. Five of the current members will remain on the Council to provide continuity for new members.

The Advisory Council makes recommendations to the Detroit District Ranger on matters relating to the management of the Opal Creek Scenic Recreation Area (SRA).

The Advisory Council is composed of a diverse group of citizens, which allows for sharing of technical knowledge and personal experience. Members represent interests including, but not limited to: Timber industry; environmental organizations; mining industry; land inholders within the Opal Creek Wilderness and SRA; economic development interests; and Indian tribes. Other members serving on the Council as required by the Act represent Marion County, communities within a 25 mile radius of the SRA, State of Oregon, and City of Salem.

Positions to be filled are from timber industry, economic development, Indian Tribes, communities within 25-miles of the SRA, the City of Salem, Marion County, the State of Oregon, and one at-large member. Examples of “at-large” members who may be interested in serving on this Council include recreation interests, adjacent landowner, educators and researchers.

Nominees must be United States citizens, at least 18 years old. Willamette officials will recommend nominees' appointments to the Secretary of Agriculture based on criteria which include:

(1) Familiarity with the Opal Creek SRA;

(2) Knowledge and understanding of other cultures;

(3) Ability to actively participate in diverse team settings;

(4) Respect and credibility in local communities;

(5) Past experience working with the government planning processes;

(6) Demonstrated skill in working toward mutually beneficial solutions to complex issues; and

(7) Commitment to attending Advisory Council and other meetings.

The basic duties include sharing of technical knowledge and personal experience. Members also represent interests of appropriate groups by (1) generating information necessary for the planning and implementation process from interest groups, and (2) keeping their constituency informed of progress.

DATES: Nomination packets should be received by January 8, 2007.

Address and Contact Informaton: People interested in more information or a nomination packet should contact the Detroit Ranger District at 503-854-3366. The nomination packet can also be downloaded from the Opal Creek Advisory Council section of the Willamette National Forest Web site: www.fs.fed.us/r6/willamette/manage/opalcreek/index.html. The nomination packet with original signatures must be sent to: Detroit Ranger District, Attn: Opal Creek DFO, HC 73 Box 320, Mill City, OR 97360.

SUPPLEMENTARY INFORMATION: Congress established the Opal Creek Wilderness and the Scenic Recreation Areas on November 9, 1998. As outlined in Section 1023 of the Omnibus Parks and Public Lands Management Act of 1996 (Pub. L. 104-333), an Advisory Council has been chartered to serve as a consultant on matters relating to the management of the 13,408-acres Opal Creek Scenic Recreation Area (SRA).

Dated: November 22, 2006.
Dallas J. Emch,
Forest Supervisor.

[FR Doc. E6-20202 Filed 11-28-06; 8:45 am]

BILLING CODE 3410-11-P